DEPARTMENT OF EDUCATION

Notice of Proposed Information Collection Requests; Comment Request

AGENCY: Department of Education.

ACTION: Correction Notice.

SUMMARY: On June 16, 2008, the Department of Education published a comment period notice in the Federal Register (Page 33994, Column 2) for the information collection, “Generic Application Package for Discretionary Grant Programs.” This notice hereby corrects the responses to 10,236 and the burden hours to 360,550. The IC Clearance Official, Regulatory Information Management Services, Office of Management, hereby issues a correction notice as required by the Paperwork Reduction Act of 1995.

Dated: June 16, 2008.
Angela C. Arrington,
IC Clearance Official, Regulatory Information Management Services, Office of Management.

[FR Doc. E8-13881 Filed 6-18-08; 8:45 am]

BILLING CODE 4000-01-P